DEPARTMENT OF THE TREASURY

Submission for OMB Review; Comment Request

October 16, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 22, 2006 to be assured of consideration.

Financial Management Service (FMS)

OMB Number: 1510-0074.

Type of Review: Extension.

Title: Electronic Funds Transfer (EFT) Market Research Study.

Description: FMS/Treasury, Federal Reserve Bank of St. Louis, and its contractor request renewal of a generic clearance for the study of Federal benefit recipients to identify barriers to significant increases in use of EFT for benefit payments.

Respondents: Individuals or households.

Estimated Total Burden Hours: 2,500 hours.

Clearance Officer: Wesley Powe (202) 874-8936, Financial Management Service, Room 135, 3700 East West Highway, Hyattsville, MD 20782.

OMB Reviewer: Alexander T. Hunt (202) 395-7316, Office of Management and Budget, Room 10235, New Executive Office Building, Washington, DC 20503.

Robert B. Dahl,
Treasury PRA Clearance Officer.

[FR Doc. E6-17677 Filed 10-20-06; 8:45 am]

BILLING CODE 4810-35-P